DEPARTMENT OF HEALTH AND HUMAN SERVICES

Centers for Disease Control and Prevention

Meeting of the Task Force on Community Preventive Services

AGENCY: Centers for Disease Control and Prevention (CDC), Department of Health and Human Services (HHS).

ACTION: Notice of meeting.

SUMMARY: The Centers for Disease Control and Prevention (CDC) announces the next meeting of the Task Force on Community Preventive Services (Task Force). The Task Force is an independent, nonfederal body of nationally known leaders in public health practice, policy, and research who are appointed by the CDC Director. The Task Force was convened in 1996 by the Department of Health and Human Services (HHS) to assess the effectiveness of community, environmental, population, and healthcare system interventions in public health and health promotion. During this meeting the Task Force will consider the findings of systematic reviews and issue recommendations and findings to help inform decision making about policy, practice, and research in a wide range of U.S. settings. The Task Force's recommendations, along with the systematic reviews of the scientific evidence on which they are based, are compiled in the Guide to Community Preventive Services (Community Guide).

DATES: The meeting will be held on Wednesday, October 20, 2010 from 8:30 a.m. to 5:30 p.m., MDT and Thursday, October 21, 2010 from 8:30 a.m. to 1 p.m., MDT.

ADDRESSES: The meeting will be held at the Curtis Hotel, 1405 Curtis Street, Denver, Colorado 80202, phone (303) 571-0300.

FOR FURTHER INFORMATION CONTACT: Freda Parker, Division of Community Preventive Services, Epidemiology and Analysis Program Office, Office of Surveillance, Epidemiology, and Laboratory Services, Centers for Disease Control and Prevention, 1600 Clifton Road, Atlanta, Georgia 30333, phone: (404) 498-1119, e-mail: communityguide@cdc.gov.

Purpose: The Task Force is meeting to consider findings of reviews and issue recommendations and findings to help inform decision makers about policy, practice, and research in a wide range of U.S. settings.

Matters To Be Discussed: Effectiveness of: Health Communication Campaigns with Product Distribution to Improve Health Behaviors; Responsible Beverage Service (RBS) Training to Decrease Underage Drinking and Excessive Alcohol Consumption; Health Care System-Based Interventions Implemented in Combination to Increase Vaccination Rates; Economic evaluation of Immunization Information Systems; Proposals regarding use of an Existing Review of Early Childhood Education; and Prioritization of Reviews of Tobacco Prevention. Agenda items are subject to change as priorities dictate.

Meeting Accessibility: This meeting is open to the public, limited only by space available.

Dated: October 12, 2010.
Tanja Popovic,
Deputy Associate Director for Science, Centers for Disease Control and Prevention.

[FR Doc. 2010-26133 Filed 10-15-10; 8:45 am]

BILLING CODE 4163-18-P